DEPARTMENT OF COMMERCE

International Trade Administration

[C-580-882]

Countervailing Duty Order on Certain Cold-Rolled Steel Flat Products From the Republic of Korea: Amended Final Results of the First Countervailing Duty Administrative Review

AGENCY: Enforcement and Compliance, International Trade Administration, Department of Commerce.

SUMMARY: The Department of Commerce (Commerce) is amending the final results of the countervailing duty administrative review of certain cold-rolled steel flat products from the Republic of Korea (Korea) to correct a ministerial error. The period of review (POR) is July 29, 2016 through December 31, 2016.

DATES: Applicable July 5, 2019.

FOR FURTHER INFORMATION CONTACT: Tyler Weinhold, AD/CVD Operations, Office VI, Enforcement and Compliance, International Trade Administration, U.S. Department of Commerce, 1401 Constitution Avenue NW, Washington, DC 20230; telephone: (202) 482-1121.

Background

In accordance with section 751(a)(1) of the Tariff Act of 1930, as amended (the Act), and 19 CFR 351.221(b)(5), on May 24, 2019, Commerce published its final results of the countervailing duty administrative review of certain cold-rolled steel flat products from Korea.¹ On June 3, 2019, POSCO alleged a calculation error in these Final Results regarding POSCO's policy loans from the Korea Resources Corporation (KORES).² We did not receive any other ministerial error comments or rebuttal comments.

¹ See Certain Cold-Rolled Steel Flat Products from the Republic of Korea: Final Results of Countervailing Duty Administrative Review, 2016, 84 FR 24087 (May 24, 2019) (Final Results), and accompanying Issues and Decision Memorandum (IDM).

² See POSCO's letter “Certain Cold-Rolled Steel Flat Products from the Republic of Korea, 7/29/2016-12/31/2016 Administrative Review, Case No. C-580-882: POSCO's Ministerial Error Allegation,” dated June 3, 2019.

Scope of the Order

The merchandise covered by the order is certain cold-rolled steel flat products. For a complete description of the scope of the order, see the Issues and Decision Memorandum accompanying the Final Results.³

³ See Final Results IDM.

Ministerial Errors

Section 751(h) of the Act and 19 CFR 351.224(f) define a “ministerial error” as an error in addition, subtraction, or other arithmetic function, clerical error resulting from inaccurate copying, duplication, or the like, and any other similar type of unintentional error which the Secretary considers ministerial. As discussed in the Amended Final Issues and Decision Memorandum, Commerce finds that the error alleged by POSCO constitutes a ministerial error within the meaning of 19 CFR 351.224(f).⁴ Specifically, Commerce made an error in the calculation of the benefit to POSCO from the POSCO's KORES loans.

⁴ See Memorandum, “Allegation of Ministerial Errors in the Final Results of the First Antidumping Duty Administrative Review of Certain Cold-Rolled Steel Flat Products from the Republic of Korea,” dated concurrently with, and hereby adopted by, this notice (Amended Final Issues and Decision Memorandum) at 5.

In accordance with section 751(h) of the Act and 19 CFR 351.224(e), we are amending the Final Results to correct the ministerial error. Specifically, we are amending the net subsidy rates for POSCO and the non-selected companies under review.⁵ The revised net subsidy rates are provided below.

⁵ Id. at 5-6. Because we relied on POSCO's subsidy rates to calculate the rate for non-selected companies under review, we are revising the rate for non-selected companies under review in these amended final results. See Memorandum, “Countervailing Duty Administrative Review: Certain Cold-Rolled Steel Flat Products from the Republic of Korea; Amended Final Results Rate Calculation for the Non-Selected Companies,” dated concurrently with the amended final results.

Amended Final Results

As a result of correcting the ministerial error, we determine that the countervailable subsidy rates for the producers/exporters under review are as follows:

Company | Subsidy rate (percent ad valorem)
POSCO | 0.54
Dongbu Steel Co., Ltd | 0.56
Dongbu Incheon Steel Co., Ltd | 0.56
Dongkuk Steel Mill Co., Ltd | 0.56
Dongkuk Industries Co., Ltd | 0.56
Hyuk San Profile Co., Ltd | 0.56
Taihan Electric Wire Co., Ltd | 0.56
Union Steel Co., Ltd | 0.56

Assessment Rates

Commerce intends to issue assessment instructions to U.S. Customs and Border Protection (CBP) 15 days after the date of publication of these amended final results of review, to liquidate shipments of subject merchandise entered, or withdrawn from warehouse, for consumption, on or after January 1, 2016 through December 31, 2016, at the ad valorem rates listed above.

Cash Deposit Requirements

Commerce intends to instruct CBP to collect cash deposits of estimated countervailing duties, in the amounts shown above for the companies listed above on shipments of subject merchandise entered, or withdrawn from warehouse, for consumption on or after May 24, 2019, the date of publication of the Final Results. For all non-reviewed firms, we will instruct CBP to collect cash deposits at the most-recent company specific or all-others rate applicable to the company, as appropriate. These cash deposit requirements, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intend to disclose the calculations performed for these amended final results to interested parties within five business days of the date of the publication of this notice in accordance with 19 CFR 351.224(b).

Notification to Interested Parties

We are issuing and publishing these results in accordance with sections 751(h) and 777(i)(1) of the Act, and 19 CFR 351.224(e).

Dated: June 25, 2019.
Jeffrey I. Kessler,
Assistant Secretary for Enforcement and Compliance.

[FR Doc. 2019-14337 Filed 7-3-19; 8:45 am]

BILLING CODE 3510-DS-P